DEPARTMENT OF HOMELAND SECURITY

National Communications System

[Docket No. NCS-2007-0001]

National Security Telecommunications Advisory Committee; Notice of Cancellation of Committee Meeting

AGENCY: National Communications System, DHS.

ACTION: Notice of Partially Closed Advisory Committee Meeting; Notice of Cancellation.

SUMMARY: The Agency is issuing this notice to cancel a meeting by teleconference of the President's National Security Telecommunications Advisory Committee (NSTAC). This meeting was originally announced in the Federal Register of March 15, 2007.

FOR FURTHER INFORMATION CONTACT: Mr. Kelvin Coleman, 703-235-5643.

SUPPLEMENTARY INFORMATION: The March 29, 2007, National Security Telecommunications Advisory Committee teleconference has been cancelled. This meeting was originally announced in the Federal Register of March 15, 2007, in FR Doc 15mr07-70, on page 12179, in the second column.

Dated: March 26, 2007.
Arnella Terrell,
Federal Register Certification Official.

[FR Doc. E7-5830 Filed 3-28-07; 8:45 am]

BILLING CODE 4410-10-P